DEPARTMENT OF TRANSPORTATION

Office of the Secretary

Reports, Forms and Recordkeeping Requirements Agency Information Collection Activity Under OMB Review

AGENCY: Office of the Secretary, DOT.

ACTION: Notice.

SUMMARY: In compliance with the Paperwork Reduction Act of 1995 (44 U.S.C. 3501 et seq.), this notice announces that the Information Collection Request (ICR) abstracted below has been forwarded to the Office of Management and Budget (OMB) for renewal and comment. The ICR describes the nature of the information collection and its expected cost and burden. The Federal Register Notice with a 60-day comment period soliciting comments on the following collection of information was published on April 17, 2000 [65 FR 20507]. No comments were received.

DATES: Comments must be submitted on or before September 13, 2000.

FOR FURTHER INFORMATION COMMENT: Mr. Luther Dietrich or Mr. Dennis DeVany; EAS and Domestic Analysis Division, X-53; Office of Aviation Analysis; Office of the Secretary; U.S. Department of Transportation, 400 7th Street, SW.; Washington, DC 20590-0002. Telephone (202) 366-1046 or (202) 366-1061.

SUPPLEMENTARY INFORMATION:

Office of the Secretary (OST)

Title: Supporting Statements—Air Carriers' Claims for Subsidy Payments.

OMB Control Number: 2106-0044.

Affected Public: Small air carriers selected by the Department in docketed cases to provide subsidized essential air service.

Abstract: The requested collection of information covers OST Form 397 and OST Form 398.

Need: In 14 CFR part 271 of its Aviation Economic Regulations, the Department provided that subsidy to air carriers for providing essential air service will be paid to the carriers monthly, and that payments will vary according to the actual amount of service performed during the month. The reports of subsidized air carriers of essential air service performed on the Department's OST Form 397, “Air Carrier's Report of Departures Performed in Scheduled Service” and OST Form 398, “Air Carrier's Claim for Subsidy” establish the fundamental basis for paying these air carriers on a timely basis.

Annual Estimated Burden: 4,176*. *The annual estimated burden has been increased from 4,020 hours primarily because the essential air service program has been expanded in the amount of service supported (number of round trips per week) in response to increased funding from Congress.

Comments are invited on whether the proposed collection of information is necessary for the proper performance of the functions of the Department, including whether the information will have practical utility; the accuracy of the Department's estimate of the burden of the proposed information collection; ways to enhance the quality, utility, and clarity of the information to be collected; and ways to minimize the burden of the collection of information on respondents, including the use of automated collection techniques or other forms of information technology.

Issued in Washington, DC, on August 8, 2000.
Michael Robinson,
Information Resource Management, United States Department of Transportation.

[FR Doc. 00-20603 Filed 8-11-00; 8:45 am]

BILLING CODE 4910-62-P